DEPARTMENT OF HOMELAND SECURITY

Coast Guard

33 CFR Part 165

[Docket No. USCG-2019-0438]

Safety Zones; Fireworks Displays in the Fifth Coast Guard District

AGENCY: Coast Guard, DHS.

ACTION: Notice of enforcement of regulation.

SUMMARY: The Coast Guard will enforce safety zones for six of the fireworks displays as described in the table to 33 CFR 165.506 on various dates on and around July 4, 2019. This action is necessary to ensure safety of life on the navigable waters of the United States immediately prior to, during, and immediately after the fireworks displays. During the enforcement periods, vessels may not enter, remain in, or transit through the safety zones during these enforcement periods unless authorized by the Captain of the Port or designated Coast Guard patrol personnel on scene.

DATES: The regulation in 33 CFR 165.506 will be enforced for the safety zones identified in the SUPPLEMENTARY INFORMATION section below for the dates and times specified.

FOR FURTHER INFORMATION CONTACT: If you have questions about this notice of enforcement, you may call or email Petty Officer Thomas Welker, U.S. Coast Guard, Sector Delaware Bay, Waterways Management Division, telephone 215-271-4814, email Thomas.J.Welker@uscg.mil.

SUPPLEMENTARY INFORMATION: The Coast Guard will enforce safety zones established in 33 CFR 165.506 for the following six fireworks displays during the dates, times, and at the locations listed in the following table:

Dates and Times of Enforcement of Certain 33 CFR 165.506 Safety Zones for Fireworks Displays in the Coast Guard Sector Delaware Bay COTP Zone in July 2019
Entry in the table to § 165.506 | Date | Time | Location | Safety zone
(a)5 | July 3, 2019 or rain date of July 5, 2019 | 9 p.m. to 10 p.m | Barnegat Bay, Barnegat Township, NJ | The waters of Barnegat Bay within a 500 yard radius of the fireworks barge in approximate position latitude 39°44′50″ N, longitude 074°11′21″ W, approximately 500 yards north of Conklin Island, NJ.
(a)7 | July 3, 2019 or rain date of July 5, 2019 | 9:15 p.m. to 10:15 p.m | Delaware Bay, North Cape May, NJ | All waters of the Delaware Bay within a 360 yard radius of the fireworks barge in approximate position latitude 38°58′00″ N, longitude 074°58′30″ W.
(a)4 | July 4, 2019 or rain date of July 5, 2019 | 8:45 p.m. to 9:30 p.m | North Atlantic Ocean, Avalon, NJ | The waters of the North Atlantic Ocean within a 500 yard radius of the fireworks barge in approximate location latitude 39°06′19.5″ N, longitude 074°42′02.15″ W, in the vicinity of the shoreline at Avalon, NJ.
(a)11 | July 4, 2019 or rain date of July 5, 2019 | 9:30 p.m. to 10:30 p.m | North Atlantic Ocean, Ocean City, NJ | The waters of the North Atlantic Ocean within a 500 yard radius of the fireworks barge in approximate location latitude 39°16′22″ N, longitude 074°33′54″ W, in the vicinity of the shoreline at Ocean City, NJ.
(a)13 | July 4, 2019 | 9:15 p.m. to 9:45 p.m | Little Egg Harbor, Parker Island, NJ | All waters of Little Egg Harbor within a 500 yard radius of the fireworks barge in approximate position latitude 39°34′18″ N, longitude 074°14′43″ W, approximately 50 yards north of Parkers Island.
(a)16 | July 4, 2019 or rain date of July 5, 2019 | 9 p.m. to 10:30 p.m | Penn′s Landing, Delaware River, Philadelphia PA | All waters of Delaware River, adjacent to Penn's Landing, Philadelphia, PA, within 500 yards of a fireworks barge at approximate position latitude 39°56′49″ N, longitude 075°08′11″ W.

In addition to this notice of enforcement in the Federal Register, the Coast Guard will provide notification of the enforcement periods via the Local Notice to Mariners and marine information broadcasts.

Dated: June 11, 2019.
Scott E. Anderson,
Captain, U.S. Coast Guard, Captain of the Port, Delaware Bay.

[FR Doc. 2019-13182 Filed 6-20-19; 8:45 am]

BILLING CODE 9110-04-P